DEPARTMENT OF HEALTH AND HUMAN SERVICES

Centers for Medicare & Medicaid Services

[Document Identifier: CMS-10148]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected and the use of automated collection techniques or other forms of information technology to minimize the information collection burden.

DATES: Comments on the collection(s) of information must be received by the OMB desk officer by September 27, 2018.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR, Email: OIRA_submission@omb.eop.gov

To obtain copies of a supporting statement and any related forms for the proposed collection(s) summarized in this notice, you may make your request using one of following:

1. Access CMS' website address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

Information Collection

1. Type of Information Collection Request: Revision of the currently approved collection.; HIPAA Administrative Simplification (Non-Privacy/Security) Complaint Form; Use: The authority for administering and enforcing compliance with the non-privacy/security Health Insurance Portability and Accountability Act (HIPAA) rules has been delegated to the Centers for Medicare & Medicaid Services (CMS). At present, CMS' compliance and enforcement activities are primarily complaint-based. Although our enforcement efforts are focused on investigating complaints, they may also include conducting compliance reviews to determine if a covered entity is in compliance. Potential violations can come through a complaint form or a compliance review.

This standard form collects identifying and contact information of the complainant, as well as, the identifying and contact information of the filed against entity (FAE). This information enables CMS to respond to the complainant and gather more information if necessary, and to contact the FAE to discuss the complaint and CMS' findings.

In addition to the identifying and contact information, the standard form collects a summary which outlines the nature of the complaint. This summary is used to determine the validity of the complaint, and to categorize the complaint as related to transactions, standards, code sets, unique identifiers, and/or operating rules. This ensures the appropriate direction of the complaint process and enables CMS to produce accurate reports regarding complaint activity.

The revision form associated with this submission adds an option for filing complaints under Unique Identifier and Operating Rules. It also requests an email address for filed against entities, if available.

The 60-day notice published on March 29, 2018. It must be noted that the files CMS posted on its PRA website were the incorrect files. CMS acknowledges and apologizes for this oversight. To allow the public extra time to review the correct form, CMS is extending the 30-day comment period to a 45-day comment period. It should be noted that where possible and practical, CMS reviewed and responded to commenters concerns that would still be present in the corrected version of the form. Form Number: CMS-10148 (OMB Control number: 0938-0948); Frequency: Occasionally; Affected Public: Individuals; Number of Respondents: 125; Total Annual Responses: 125; Total Annual Hours: 125. (For policy questions regarding this collections contact Kevin Stewart at 410-786-6149.)

Dated: August 8, 2018.
William N. Parham, III,
Director, Paperwork Reduction Staff, Office of Strategic Operations and Regulatory Affairs.

[FR Doc. 2018-17318 Filed 8-10-18; 8:45 am]

BILLING CODE 4120-01-P